DEPARTMENT OF COMMERCE

National Oceanic and Atmospheric Administration

50 CFR Part 300

[Docket No. I.D. 083002E]

RIN 0648-AP86

International Fisheries; Pacific Tuna Fisheries

AGENCY: National Marine Fisheries Service (NMFS), National Oceanic and Atmospheric Administration (NOAA), Commerce.

ACTION: Proposed rule; 2002 management measures for yellowfin and juvenile bigeye tuna; request for comments.

SUMMARY: NMFS proposes this rule to implement the 2002 management measures to prevent overfishing of eastern tropical Pacific ocean (ETP) tuna stocks, pursuant to recommendations by the Inter-American Tropical Tuna Commission (IATTC) that have been approved by the Department of State (DOS) under the terms of the Tuna Conventions Act. The purse seine fishery for tuna in the Convention Area would be closed for the month of December, 2002. This action is taken to limit total fishing mortality caused by purse seine fishing in the Convention Area and thus prevent overfishing and maintain the tuna stocks at levels that support healthy fisheries. In addition, the current bycatch reduction pilot program scheduled to run through 2002 would be extended through 2004.

DATES: Comments must be submitted in writing by November 19, 2002.

FOR FURTHER INFORMATION CONTACT: Svein Fougner, Sustainable Fisheries Division, Southwest Region, NMFS, 562-980-4040.

SUPPLEMENTARY INFORMATION: The United States is a member of the IATTC, which was established under the Convention for the Establishment of an IATTC signed in 1949. The IATTC was established to provide an international arrangement to ensure the effective international conservation and management of highly migratory species of fish in the Convention Area. The IATTC has maintained a scientific research and fishery monitoring program for many years and annually assesses the status of stocks of tuna and the fisheries to determine appropriate harvest limits or other measures to prevent overexploitation of the stocks and promote viable fisheries. The Convention Area is defined to include waters of the eastern Pacific ocean (EPO) bounded by the coast of the Americas, the 40° N. and 40° S. parallels, and the 150° W. meridian.

At its annual meeting June 26-28, 2002, the IATTC adopted a resolution dealing with conservation of ETP tuna stocks. The IATTC considered the use of quotas and partial fishery closures as in 1999, 2000, and 2001 but, after reviewing the history of administration of these quotas and partial closures and the occasions of non-compliance, the IATTC recommended that the Convention Area be closed to all purse seine fishing for the month of December 2002. This approach will provide substantial protection against overfishing in a manner that is fair and equitable manner and is readily enforceable. There will be no need to investigate catch records to determine if incidental catch limits have been exceeded or to distinguish between activities inside and outside the IATTC's Commission Yellowfin Regulatory Area. The DOS has approved this recommendation.

The closure is based on 2002 assessments of the condition of the tuna stocks in the ETP and the administrative records relating to implementation of quotas in prior years. The assessments indicate that the stocks are healthy, though there is substantial uncertainty with respect to the bigeye assessment. The closure is believed to be sufficient to prevent overfishing of any tuna stock.

Classification

This action is authorized by the Tuna Conventions Act, 16 U.S.C. 951-961 and 971 et seq.

NMFS prepared a biological opinion (BO) assessing the impacts of the fisheries as they would operate under the regulations (65 FR 47, January 3, 2000) implementing the International Dolphin Conservation Program. NMFS concluded that the fishing activities conducted under those regulations are not likely to jeopardize the continued existence of any endangered or threatened species under the jurisdiction of NMFS or result in the destruction or adverse modification of critical habitat. This rule will not result in any changes in the fisheries such that there would be impacts beyond those considered in that BO and further consultation is not necessary.

The Chief Counsel for Regulation of the Department of Commerce certified to the Chief Counsel for Advocacy of the Small Business Administration that this proposed rule, if adopted, would not have a significant economic impact on a substantial number of small entities as follows:

The U.S. tuna purse seine fleet in the ETP consists of 10-20 small vessels and 4-6 large vessels. The large vessels generally fish outside U.S. waters and deliver their catch to foreign ports or transship to processors outside the mainland United States. The small vessels fish most of the year for small pelagic fish (sardine, mackerel) but harvest tuna in the U.S. exclusive economic zone seasonally when they are available. The large vessels are categorized as large business entities. They have been actively regulated for many years and have complied with IATTC recommendations without difficulty. The closure may have less adverse impact than alternative conservation measures (e.g., a yellowfin quota) could have had because it will be uniformly applied to all purse seine fleets in all areas rather than being more selectively applied. There should be no substantial increase in costs due to the bycatch reduction program extension. The small fleet should not be affected at all by the closure. Tuna would only very rarely be available to these smaller vessels in December, and in December many if not most of the fleet will be targeting market squid. The bycatch reduction program also should not pose significant difficulties for this fleet, which uses smaller nets and generally harvests fairly discrete schools of bluefin tuna which would be expected to have relatively little bycatch. In the rest of the Convention Area however, fishing has often been heavy during the month of December. Therefore, the closure in the purse seine fishery will limit fishing mortality.

As a result, an Initial Regulatory Flexibility Analysis was not prepared.

This proposed rule has been determined to be not significant for the purposes of Executive Order 12866.

Authority: 16 U.S.C. 951-961 and 971 et seq.

Dated: October 30, 2002.
Rebecca Lent,
Deputy Assistant Administrator for Regulatory Programs, National Marine Fisheries Service.

[FR Doc. 02-28007 Filed 11-1-02; 8:45 am]

BILLING CODE 3510-22-S